DEPARTMENT OF EDUCATION

[CFDA No.: 84.326C]

Office of Special Education and Rehabilitative Services; Special Education—Technical Assistance and Dissemination To Improve Services and Results for Children With Disabilities—Projects for Children and Young Adults Who Are Deaf-Blind (84.326C)

ACTION: Notice inviting applications for new awards for fiscal year (FY) 2003.

SUMMARY: The Assistant Secretary for Special Education and Rehabilitative Services invites applications for FY 2003 under the Special Education—Technical Assistance and Dissemination to Improve Services and Results for Children with Disabilities Program. This program is authorized under the Individuals with Disabilities Education Act (IDEA), as amended. This notice provides closing dates, priorities, and other information regarding the transmittal of applications.

Purpose of Program: This program provides technical assistance and information that (1) support States and local entities in building capacity to improve early intervention, educational, and transitional services and results for children with disabilities and their families; and (2) address goals and priorities for changing State systems that provide early intervention, educational, and transitional services for children with disabilities and their families.

Eligible Applicants: State educational agencies, local educational agencies, institutions of higher education, other public agencies, nonprofit private organizations, for-profit organizations, outlying areas, freely associated States, and Indian tribes or tribal organizations.

Applications Available: July 7, 2003.

Deadline for Transmittal of Applications: August 6, 2003.

Deadline for Intergovernmental Review: October 6, 2003.

Estimated Available Funds: $9.5 million.

Estimated Range of Awards: $30,000—$575,000.

Estimated Average Size of Awards: $179,000.

Maximum Awards: The chart shown in the Project Award section of this notice lists the maximum amount of funds for individual States for FY 2003. The Secretary may make awards under the priority described in the Priorities section to support single or multi-State projects. A State may be served by only one supported project. In determining the maximum funding levels for each State the Secretary considered, among other things, the following factors:

(1) The total number of children from birth through age 21 in the State;

(2) Number of people in poverty in the State;

(3) Previous funding levels; and

(4) Maximum and minimum funding amounts.

Estimated Number of Awards: 48.

Note: The Department is not bound by any estimates in this notice.

Project Period: Up to 60 months.

Page Limit: Part III of the application submitted under this notice, the application narrative, is where you, the applicant, address the selection criteria that reviewers use in evaluating your application. You must limit Part III to the equivalent of no more than 70 pages, using the following standards:

• A “page” is 8.5″ x 11″ (on one side only) with one-inch margins at the top, bottom, and both sides.

• Double space (no more than three lines per vertical inch) all text in the application narrative, including titles, headings, footnotes, quotations, and captions, as well as all text in charts, tables, figures, and graphs.

• Use a font that is either 12-point or larger or no smaller than 10 pitch (characters per inch).

The page limit does not apply to Part I, the cover sheet; Part II, the budget section, including the narrative budget justification; Part IV, the assurances and certifications; or the one-page abstract, the resumes, the bibliography or references, or the letters of support. However, you must include all of the application narrative in Part III.

We will reject your application if—

• You apply these standards and exceed the page limit; or

• You apply other standards and exceed the equivalent of the page limit.

Applicable Regulations: The Education Department General Administrative Regulations (EDGAR) in 34 CFR parts 74, 75, 77, 79, 80, 81, 82, 85, 86, 97, 98, and 99.

Note: The regulations in 34 CFR part 79 apply to all applicants except federally recognized Indian tribes.

Note: The regulations in 34 CFR part 86 apply to institutions of higher education only.

Selection Criteria

In evaluating an application for a new grant under this competition, we will use selection criteria chosen from the general selection criteria in 34 CFR 75.210 of EDGAR. The specific selection criteria to be used for this competition will be provided in the application package for this competition.

General Requirements

(a) The projects funded under this competition must make positive efforts to employ and advance in employment qualified individuals with disabilities (see section 606 of IDEA).

(b) Applicants and grant recipients under this competition must involve qualified individuals with disabilities or parents of individuals with disabilities in planning, implementing, and evaluating the projects (see section 661(f)(1)(A) of IDEA).

(c) If a project maintains a Web site, it must include relevant information and documents in an accessible form on the Web site.

Priority

Under 34 CFR 75.105(c)(3), we consider only applications that meet the following absolute priority:

Background

IDEA includes provisions designed to ensure that each child with a disability is provided a high-quality individual program of services to meet his or her developmental and educational needs. For children who are deaf and blind to receive such services, intensive technical assistance must be afforded State and local educational agencies, parents, and professionals regarding appropriate educational placements, accommodations, environmental adaptations, support services, and other matters. In addition, given the severity of deaf-blindness and the low-incidence nature of this population, many early intervention programs or local school districts lack personnel with the training or experience to serve children who are deaf-blind.

Priority

This priority supports projects to build the capacity of State and local agencies, parents, and professionals to improve outcomes for children and young adults who are deaf-blind, and their families, by providing technical assistance, information, and training on early intervention, special education, related services, and transitional services. Projects must:

(a) Identify and support specific activities to, at a minimum:

(1) Enhance State capacity to improve services and results for children who are deaf-blind;

(2) Facilitate the achievement of systemic-change goals by improving education opportunities for children who are deaf-blind;

(3) Focus on implementation of research-based best practices;

(4) Ensure that service providers have the necessary skills to address the unique needs of children who are deaf-blind; and

(5) Address the needs of families of children who are deaf-blind.

(b) Maintain needs assessment information to develop statewide priorities for technical assistance, information, and training across all age ranges by:

(1) Collecting basic demographic information on children with deaf-blindness;

(2) Assessing the critical needs of these children; and

(3) Assessing current needs of the State.

(c) Develop and implement procedures to evaluate the impact of program activities on services and outcomes for children and young adults with deaf-blindness and their families by:

(1) Evaluating the effectiveness of strategies in achieving program goals and objectives;

(2) Including measures of change in outcomes for children; and

(3) Consulting with the project's advisory committee regarding the development of the evaluation procedures.

(d) Coordinate, and collaborate with State educational agencies, and other relevant agencies and organizations, including other projects serving children who are deaf-blind under IDEA. This includes specific collaboration activities with the National Clearinghouse on Deaf-Blindness (DB-LINK) and the Technical Assistance Consortium with Children and Young Adults with Deaf-Blindness (NTAC).

(e) Disseminate effective practices and relevant information to families, service providers, LEAs, and agencies.

(f) Prior to developing any new product, whether paper or electronic, submit for approval a proposal describing the content and purpose of the product to the document review board of OSEP's Dissemination Center, which OSEP plans to fund this year.

(g) Provide OSEP-specified technical assistance to States. This effort may include: (1) Participation in collaborative Web-based technical assistance activities, or (2) coordination of and participation in State-to-State communities of practice.

(h) Establish and maintain an advisory committee to assist in promoting project activities. Each committee must include at least one adult with deaf-blindness and one student with deaf-blindness, a parent of a child with deaf-blindness, a representative of each State educational agency and each State lead agency under Part C of IDEA in the State (or States) served by the project, and a limited number of professionals with training and experience in serving children with deaf-blindness.

(i) Budget for a three-day Project Directors' meeting in Washington, DC during each year of the project.

In making awards under this priority, the Secretary shall consider the proposed availability of services for children with deaf-blindness in all areas of the country. Funds awarded under this priority may not be used for direct early intervention, special education, or related services provided under Parts B and C of IDEA.

During year two, each project must conduct a comprehensive self-evaluation. The self-evaluation must include a review of the degree to which the project is meeting the proposed objectives and goals and an evaluation of the outcome data. Costs associated with this on site evaluation are estimated to be $6,500 and should be included in the project's second year budget. In addition, the Department of Education intends to conduct a limited number of on-site evaluations based on a stratified randomized sample of sites.

Project Awards

The following award amounts are for a single budget period of 12 months:

2003 Funding Levels for CFDA No. 84.326C
State | Funding Level
AK | $106,971
AL | 185,095
AR | 118,534
AZ | 175,338
CA | 575,000
CO | 154,079
CT | 104,751
MA | 126,661
ME | 65,000
NH | 65,807
DE | 83,362
FL | 362,027
GA | 305,978
HI | 77,491
IA | 97,054
ID | 85,303
IL | 335,444
IN | 210,093
KS | 128,122
KY | 165,145
LA | 145,840
MD | 164,366
MI | 256,289
MN | 171,335
MO | 197,129
MS | 133,605
MT | 106,123
NC | 313,649
ND | 65,000
NE | 78,471
NJ | 268,086
NM | 100,912
NY | 575,000
NV | 112,563
OH | 259,320
WI | 173,484
OK | 131,374
OR | 121,286
PA | 371,952
PR | 65,000
RI | 79,368
SC | 154,204
SD | 101,746
TN | 238,451
TX | 575,000
UT | 92,039
VA | 234,082
VT | 114,301
WA | 195,750
WV | 125,020
WY | 65,000
DC | 65,000
Pacific ** | 92,000
VI | 30,000
**Entities include outlying areas and the Freely Associated States (FAS).

We will reject an application for a State project that proposes a budget exceeding the funding level for any single budget period of 12 months. In the event an applicant proposes a Multi-State project, the budget may not exceed the sum for individual participating States.

Waiver of Proposed Rulemaking

It is generally our practice to offer interested parties the opportunity to comment on proposed priorities. However, section 661(e)(2) of IDEA makes the public comment requirements in the Administrative Procedure Act (5 U.S.C. 553) inapplicable to the priority in this notice.

Application Procedures

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

In Fiscal Year 2003, the U.S. Department of Education is continuing to expand its pilot project for electronic submission of applications to include additional formula grant programs and additional discretionary grant competitions. Special Education—Technical Assistance and Dissemination to Improve Services and Results for Children with Disabilities Program “—CFDA #84.326C is one of the programs included in the pilot project. If you are an applicant under the Special Education—Technical Assistance and Dissemination to Improve Services and Results for Children with Disabilities Program, you may submit your application to us in either electronic or paper format.

The pilot project involves the use of the Electronic Grant Application System (e-Application). Users of e-Application will be entering data on-line while completing their applications. You may not e-mail a soft copy of a grant application to us. If you participate in this voluntary pilot project by submitting an application electronically, the data you enter on-line will be saved into a database. We request your participation in e-Application. We shall continue to evaluate its success and solicit suggestions for improvement.

If you participate in e-Application, please note the following:

• Your participation is voluntary.

• You will not receive any additional point value because you submit a grant application in electronic format, nor will we penalize you if you submit an application in paper format. When you enter the e-Application system, you will find information about its hours of operation.

• You may submit all documents electronically, including the Application for Federal Education Assistance (ED 424), Budget Information—Non-Construction Programs (ED 524), and all necessary assurances and certifications.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The institution's Authorizing Representative must sign this form.

3. Place the PR/Award number in the upper right hand corner of the hard copy signature page of the ED 424.

4. Fax the signed ED 424 to the Application Control Center at (202) 260-1349.

• We may request that you give us original signatures on all other forms at a later date.

• Closing Date Extension in Case of System Unavailability: If you elect to participate in the e-Application pilot for the Special Education-Technical Assistance and Dissemination to Improve Services and Results for Children with Disabilities Program and you are prevented from submitting your application on the closing date because the e-Application system is unavailable, we will grant you an extension of one business day in order to transmit your application electronically, by mail, or by hand delivery. For us to grant this extension—

1. You must be a registered user of e-Application, and have initiated an e-Application for this competition; and

2. (a) The e-Application system must be unavailable for 60 minutes or more between the hours of 8:30 and 3:30 p.m., Washington, DC time, on the deadline date; or

(b) The e-Application system must be unavailable for any period of time during the last hour of operation (that is, for any period of time between 3:30 and 4:30 p.m., Washington, DC time) on the deadline date.

The Department must acknowledge and confirm these periods of unavailability before granting you an extension. To request this extension you must contact either (1) the person listed elsewhere in this notice under FOR FURTHER INFORMATION CONTACT or (2) the e-GRANTS help desk at 1-888-336-8930.

You may access the electronic grant application for the Special Education—Technical Assistance and Dissemination to Improve Services and Results for Children with Disabilities Program at: http://e-grants.ed.gov.

We have included additional information about the e-Application pilot project (see Parity Guidelines between Paper and Electronic Applications) in the application package.

For Applications Contact: Education Publications Center (ED Pubs), P.O. Box 1398, Jessup, Maryland 20794-1398. Telephone (toll free): 1-877-433-7827. FAX: 301-470-1244. If you use a telecommunications device for the deaf (TDD), you may call (toll free): 1-877-576-7734.

You may also contact ED Pubs at its Web site: http://www.ed.gov/pubs/edpubs.html.

Or you may contact ED Pubs at its e-mail address: edpubs@inet.ed.gov.

If you request an application from ED Pubs, be sure to identify this competition as follows: CFDA 84.326C.

FOR FURTHER INFORMATION CONTACT: The Grants and Contracts Services Team, U.S. Department of Education, 400 Maryland Avenue, SW., room 3317, Switzer Building, Washington, DC 20202-2550. Telephone: 1-202-205-8207.

If you use a telecommunications device for the deaf (TDD), you may call the Federal Information Relay Service (FIRS) at 1-800-877-8339.

Individuals with disabilities may obtain this document or a copy of the application package in an alternative format (e.g., Braille, large print, audiotape, or computer diskette) on request to the Grants and Contracts Services Team listed in this section. However, the Department is not able to reproduce in an alternative format the standard forms included in the application package.

Intergovernmental Review

The program in this notice is subject to the requirements of Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo/nara/index.html.

Program Authority: 20 U.S.C. 1485.
Dated: June 30, 2003.
Robert H. Pasternack,
Assistant Secretary for Special Education and Rehabilitative Services.

[FR Doc. 03-16940 Filed 7-2-03; 8:45 am]

BILLING CODE 4000-01-P